FEDERAL MARITIME COMMISSION

Ocean Transportation Intermediary License; Rescission of Order of Revocation

Notice is hereby given that the Order revoking the following licenses are being rescinded by the Federal Maritime Commission pursuant to section 19 of the Shipping Act of 1984 (46 U.S.C. Chapter 409) and the regulations of the Commission pertaining to the licensing of Ocean Transportation Intermediaries, 46 CFR part 515.

License Number: 019706N

Name: Safe Movers, Inc. dba Isaac's Relocation Service

Address: 181 Campanelli Parkway, Stoughton, MA 02072

Order Published: FR: 6/15/11 (Volume 76, No. 115, Pg. 34994)

License Number: 021442F

Name: Ferm Holdings, Inc.

Address: 3640 NW 115th Avenue, Miami, FL 33178

Order Published: FR: 6/02/11 (Volume 76, No. 106, Pg. 31964)

License Number: 022268NF

Name: USI-USA, Inc.

Address: 13030 Fellowship Way, Reno, NV 89511

Order Published: FR: 5/12/11 (Volume 76, No. 92, Pg. 27644)

Sandra L. Kusumoto,
Director, Bureau of Certification and Licensing.

[FR Doc. 2011-16545 Filed 6-30-11; 8:45 am]

BILLING CODE 6730-01-P